DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 8, 2008.

Interested persons are invited to submit written comments regarding the subject matter of the investigations to the Director, Division of Trade Adjustment Assistance, at the address shown below, not later than September 8, 2008.

The petitions filed in this case are available for inspection at the Office of the Director, Division of Trade Adjustment Assistance, Employment and Training Administration, U.S. Department of Labor, Room C-5311, 200 Constitution Avenue, NW., Washington, DC 20210.

Signed at Washington, DC, this 20th day of August 2008.
Linda G. Poole,
Certifying Officer, Division of Trade Adjustment Assistance.

TAA Petitions Instituted Between 8/11/08 and 8/15/08
TA-W | Subject firm (petitioners) | Location | Date of institution | Date of petition
63841 | Great Lakes Industry, Inc. (Comp) | Jackson, MI | 08/11/08 | 08/08/08
63842 | Schlegel Corporation (Comp) | Chester, SC | 08/11/08 | 08/08/08
63843 | Ace Precision Castings, LLC (State) | Marshalltown, IA | 08/11/08 | 08/08/08
63844 | Kenro, Inc. (Wkrs) | Fredonia, WI | 08/11/08 | 08/08/08
63845 | Monster Cable (Wkrs) | Brisbane, CA | 08/11/08 | 08/08/08
63846 | Kennametal, Inc. (Comp) | Latrobe, PA | 08/11/08 | 08/07/08
63847 | Ramp Management, LLC (Wkrs) | Fenton, MO | 08/11/08 | 08/07/08
63848 | Kansas City Service Center (Wkrs) | Lee's Summit, MO | 08/12/08 | 08/05/08
63849 | Henredon Furniture (Wkrs) | High Point, NC | 08/12/08 | 08/05/08
63850 | Conn-Selmer, Inc. (Wkrs) | Monroe, NC | 08/12/08 | 08/11/08
63851 | Fechheimer-Martin Manufacturing (Comp) | Martin, TN | 08/12/08 | 08/11/08
63852 | J.J. Digh Machine Co., Inc. (Comp) | Dallas, NC | 08/12/08 | 08/11/08
63853 | Red Shield Environmental (Union) | Old Town, ME | 08/12/08 | 07/28/08
63854 | Cassens Transport, Inc. (Wkrs) | Fenton, MO | 08/12/08 | 08/07/08
63855 | Dart Container Corporation of California (Wkrs) | Corona, CA | 08/12/08 | 08/01/08
63856 | Starkey Laboratories, Inc. (State) | Eden Praire, MN | 08/12/08 | 08/11/08
63857 | Flex Steel Industries (USW) | Lancaster, PA | 08/12/08 | 08/04/08
63858 | Ascentron (Rep) | White City, OR | 08/12/08 | 08/11/08
63859 | Henkel Corporation (Wkrs) | Olean, NY | 08/12/08 | 07/15/08
63860 | K-Rain Manufacturing (Comp) | Riviera Beach, FL | 08/13/08 | 08/07/08
63861 | Superior Metal Products, Inc./American Trim (Comp) | Cullman, AL | 08/13/08 | 08/08/08
63862 | SPX Corporation (Comp) | Cleveland, OH | 08/13/08 | 08/12/08
63863 | WH Manufacturing, Inc. (Comp) | Hopkinsville, KY | 08/13/08 | 08/12/08
63864 | Luminent, Inc. (State) | Chatsworth, CA | 08/13/08 | 08/11/08
63865 | SFO Apparel (Wkrs) | Brisbane, CA | 08/13/08 | 08/02/08
63866 | General Electric Company (State) | Plainville, CT | 08/13/08 | 08/13/08
63867 | Unifi, Inc. (Comp) | Staunton, VA | 08/13/08 | 08/12/08
63868 | MSX International (UAW) | St. Louis, MO | 08/14/08 | 08/13/08
63869 | Syntex Rubber Corporation (State) | Bridgeport, CT | 08/14/08 | 08/13/08
63870 | Peerless-Winsmith, Inc. (IUECWA) | Springville, NY | 08/14/08 | 08/08/08
63871 | Maui Land and Pineapple Co./Maui Pineapple Co. (ILWU) | Kahului, HI | 08/14/08 | 08/06/08
63872 | American Standard, AS America (Comp) | Paintsville, KY | 08/14/08 | 08/01/08
63873 | C V Industries (Wkrs) | Hickory, NC | 08/14/08 | 08/13/08
63874 | Northern Technologies, Inc. (Comp) | Spokane Valley, WA | 08/14/08 | 08/13/08
63875 | J D Lumber, Inc. (Comp) | Priest River, ID | 08/14/08 | 08/12/08
63876 | KMC Industries (Wkrs) | Denmark, WI | 08/15/08 | 08/12/08
63877 | Covidien (Comp) | Watertown, NY | 08/15/08 | 08/11/08
63878 | Gerber Scientific, Inc. (Comp) | South Windsor, CT | 08/15/08 | 08/14/08
63879 | Catawissa Lumber and Specialty Co. (Comp) | West Jefferson, NC | 08/15/08 | 08/14/08
63880 | Cequent Electrical Products (Wkrs) | Tekonsha, MI | 08/15/08 | 08/06/08
63881 | JCIM, LLC (Comp) | Caro, MI | 08/15/08 | 08/08/08

[FR Doc. E8-20037 Filed 8-28-08; 8:45 am]

BILLING CODE 4510-FN-P